DEPARTMENT OF DEFENSE

Office of the Secretary

[USN-2008-0013]

Privacy Act of 1974; System of Records

AGENCY: Office of the Secretary, DoD.

ACTION: Notice to Add a System of Records.

SUMMARY: The Department of Navy proposes to add a system of records to its inventory of record systems subject to the Privacy Act of 1974 (5 U.S.C. 552a), as amended.

DATES: The changes will be effective on April 9, 2008, unless comments are received that would result in a contrary determination.

ADDRESSES: Send comments to the Privacy Act Officer, Mrs. Doris Lama, Department of the Navy, 2000 Navy Pentagon, Washington, DC 20350-2000.

FOR FURTHER INFORMATION CONTACT: Mrs. Doris Lama at (202) 685-6545.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on February 29, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

March 4, 2008.
L.M. Bynum,
Alternate OSD Federal Register Liaison Officer, Department of Defense.

N12308-1

System name:

Navy Fleet and Family Readiness (F&FR) Internship Program

System location:

For outside the continental United States, system is located at Navy Installations Command (N947), 5720 Integrity Drive, Bldg. 457, Millington, TN 38055-6540.

For continental United States, system is located at organizational elements of the Department of the Navy. Official mailing addresses are published in the Standard Navy Distribution List that is available at http://doni.daps.dla.mil/sndl.aspx.

Categories of individuals covered by the system:

Navy F&FR Internship Program applicants and selectees.

Categories of records in the system:

Name, contact address, phone number and e-mail address, educational information-university, major/minor, grade point average, advisor, advisor's contact phone number and e-mail address, work/volunteer experience, certifications/skills/hobbies, references, and official university transcripts from all program applicants. Additional information from selectees for producing passport application documents, travel orders, area security clearances, accommodation and travel reservations, voluntary service agreements, electronic funds transfers and correspondence: Birth location, birth date, citizenship, gender, height, weight, hair color, eye color, emergency point of contact name, emergency point of contact relation, emergency point of contact address, emergency point of contact phone number, emergency point of contact e-mail address, Social Security Number (SSN), driver's license state, driver's license number, driver's license issue and expiration dates, U.S. passport number, U.S. passport issue and expiration dates, bank name, bank routing number, bank account number, type of bank account, name on bank account, medical statement, proof of insurance, background check and fingerprints for Child & Youth interns, and performance evaluation.

Authority for maintenance of the system:

10 U.S.C. 5013, Secretary of the Navy; 10 U.S.C. 1588, Authority to Accept Certain Voluntary Services; and E.O. 9397 (SSN).

Purpose(s):

To select and place student interns at host installations and for local in-processing. To prepare all required documents and reservations associated with placing student interns and getting them to their internship locations, such as preparing passport application documents, submitting background checks, making travel and accommodation reservations, preparing travel orders, and securing area clearances. To supervise and monitor performance of student interns and to track overall program satisfaction and results.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Automated records/databases and manual records.

Retrievability:

Name, internship semester/year and internship location.

Safeguards:

Manual records are maintained in monitored or controlled areas accessible only to authorized personnel. Building and rooms are locked outside regular working hours. Automated records are maintained in computer files and a database with limited access only to personnel with a need to know. Access to individual computers is controlled by Common Access Card (CAC) and password.

Retention and disposal:

Information from applicants not selected are destroyed upon the start of the semester/year for which the individual applied.

Full records are kept for three years after an individual completes their internship, then destroyed except for the following:

No-fee passports are kept until they expire (up to five years), then destroyed. If an individual gains employment that would require or authorize them to obtain a no-fee passport prior to its expiration, it will be turned over at their request.

Placement information, contact information and post-internship evaluations are kept indefinitely for historical and analytical purposes.

System manager(s) and address:

Policy Officials: Commander, Navy Installations Command (N947), 5720 Integrity Drive, Bldg 457, Millington TN 38055-6540.

Record Holders: Commander, Navy Installations Command (N947), 5720 Integrity Drive, Bldg 457, Millington TN 38055-6540; and/or commanding officer of the activity in question. Official mailing addresses are published in the Standard Navy Distribution List that is available at http://doni.daps.dla.mil/sndl.aspx.

Notification procedure:

Individuals seeking to determine whether information about themselves is contained in this system should address written inquiries to the Commander, Navy Installations Command (N947), 5720 Integrity Drive, Bldg 457, Millington TN 38055-6540 for internships outside the continental United States. For internships in the continental United States, written inquiries should be made to the appropriate Navy activity concerned. Official mailing addresses are published in the Standard Navy Distribution List that is available at http://doni.daps.dla.mil/sndl.aspx.

The request should be signed and include proof of identity, full name, dates and location of internship, and a complete mailing address.

Record access procedures:

Individuals seeking access to records about themselves contained in this system of records should address written inquiries to Commander, Navy Installations Command (N947), 5720 Integrity Drive, Bldg 457, Millington TN 38055-6540 for internships outside the continental United States. For internships in the continental United States, written inquiries should be made to the appropriate Navy activity concerned. Official mailing addresses are published in the Standard Navy Distribution List that is available at http://doni.daps.dla.mil/sndl.aspx.

The request should be signed and include proof of identity, full name, dates and location of internship, and a complete mailing address.

Contesting record procedures:

The Navy's rules for accessing records, and for contesting contents and appealing initial agency determinations are published in Secretary of the Navy Instruction 5211.5; 32 CFR part 701; or may be obtained from the system manager.

Record source categories:

The individual; educational institutions; state and local authorities; and general correspondence concerning the individual.

Exemptions claimed for the system:

None.

[FR Doc. E8-4728 Filed 3-5-08; 8:45 am]

BILLING CODE 5001-06-P